DEPARTMENT OF JUSTICE

Antitrust Division

Notice Pursuant to the National Cooperative Research and Production Act of 1993—National Armaments Consortium

Notice is hereby given that, on April 19, 2018, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Aeronix, Inc., Melbourne, FL; Altavian Inc., Gainesville, FL; Asymmetric Technologies, LLC, Columbus, OH; AURA Technologies, LLC, Raleigh, NC; Azimuth Corporation, Beavercreek, OH; Bren-Tronics, Inc., Commack, NY; Broden Resource Solutions LLC, Orono, MN; Bruker Detection Corporation, Billerica, MA; C3 Engineering LLC, Baltimore, MD; CACI, Inc.,—Federal, Chantilly, VA; Central Screw Products dba Detroit Gun Works, Troy, MI; CeraNova Corporation, Marlborough, MA; Cobham Advanced Electronic Solutions Inc., Lansdale, PA; Cole Engineering Services, Inc., Orlando, FL; Colorado Engineering, Inc., Colorado Springs, CO; Contego Research, LLC, Webb City, MO; Darkblade Systems Corporation, Stafford, VA; DESE Research, Inc., Huntsville, AL; Double “B” Enterprises, LLC, Mineola, IN; DroneShield LLC, Warrenton, VA; DRS Power Technology, Inc., Fitchburg, MA; Elroy Air Inc., San Francisco, CA; Exquadrum, Inc., Adelanto, CA; Global Ordnance LLC, Sarasota, FL; GTDS America, LLC, Newbury, MA; Hernon Manufacturing Inc., Sanford, FL; Ibis Tek, Inc., Butler, PA; Insight International Technology LLC, Huntsville, AL; Jacobs Technology Inc., Fort Walton Beach, FL; Jim Sutton & Associates LLC, Woodbridge, VA; Kongsberg Protech Systems USA Corporation, Johnstown, PA; Loch Harbour Group, Inc., Alexandria, VA; Military Systems Group, Inc., Nashville, TN; MTI Partners LLC dba Metal Technology, Albany, OR; Near Earth Autonomy, Inc., Pittsburgh, PA; Nexagen Networks, Inc., Morganville, NJ; Orbital Sciences Corporation, Chandler, AZ; Parsons Government Services, Pasadena, CA; Phygen Coating, Inc., Minneapolis, MN; Plasan North America, Inc., Walker, MI; Progeny Systems Corporation, Manassas, VA; Quantum Ventura Inc., Los Angeles, CA; River Front Services, Incorporated, Chantilly, VA; SCI Technology, Inc., Huntsville, AL; Simmonds Precision Products Inc., Vergennes, VT; SPARC Research LLC, Broad Run, VA; Special Aerospace Services LLC, Boulder, CO; Specialized Technical Systems, LLC, Tewksbury, MA; Spectre Enterprises, West Palm Beach, FL; STAR Dynamics Corporation, Hilliard, OH; Strategic Technology Consulting, Toms River, NJ; TriVector Services, Inc., Huntsville, AL; TRX Systems, Inc., Greenbelt, MD; W. S. Darley & Co., Itasca, IL; Whitespace Innovations, Inc., Huntsville, AL; Wulco Co. Inc. dba Jet Machine and Manufacturing Co. Inc., Cincinnati, OH, have been added as parties to this venture.

Also, Houston Mechatronics, Webster, TX; RTI Advanced Powder Materials, Burlington, MA; and UNC Charlotte Research Institute, Charlotte, NC, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on January 31, 2018. A notice was published in the Federal Register pursuant to Section 6(b) of the Act on March 12, 2018 (83 FR 10752).

Patricia A. Brink,
Director of Civil Enforcement, Antitrust Division.

[FR Doc. 2018-10702 Filed 5-18-18; 8:45 am]

BILLING CODE 4410-11-P